DEPARTMENT OF THE INTERIOR

Bureau of Land Management

[NM-020-1430-ET; NMNM 103817]

Notice of Proposed Withdrawal and Opportunity for Public Meeting; New Mexico

AGENCY: Bureau of Land Management, Interior.

ACTION: Notice.

SUMMARY: The Bureau of Land Management (BLM) proposes to withdraw 430.015 acres, more or less, of public land in Taos County, New Mexico, to protect the riparian, scenic, and recreational values of the Rio Grande Wild and Scenic River. This notice closes the public land for up to 2 years from location under the United States mining laws. The public land will remain open to mineral leasing.

DATES: Comments must be received by December 2, 2002.

ADDRESSES: Comments should be sent to the Taos Field Office Manager, BLM, 226 Cruz Alta Road, Taos, New Mexico 87571.

FOR FURTHER INFORMATION CONTACT: Lora Yonemoto, BLM, Taos Field Office, 505-751-4709.

SUPPLEMENTARY INFORMATION: On May 13, 2002, a petition was approved allowing the Bureau of Land Management to file an application to withdraw the following described public land from location under the United States mining laws, subject to valid existing rights:

Parcel 2B

New Mexico Principal Meridian

A certain tract of land south of Ranchos de Taos, Taos County, New Mexico; within the Gijosa Grant; located within projected Sections 2, 11, 12, and 13, T. 24 N., R. 11 E., NMPM; described as part of Blocks 14, 24, 25, and 29 as shown on a survey for the Ranchos Orchard and Land Company; also described as part of Tract 1, Map 73, part of Tract 1, Map 78, part of Tract 1, Map 74, part of Tract 1, Map 77, and part of Tract 2, Map 75, all within Survey 2 of the 1941 Taos County Reassessment Survey; and more particularly described by metes and bounds as follows:

Beginning at the East corner of this tract, a ½ in. rebar set on the northwesterly right-of-way of State Road 68, from whence triangulation station “Gijosa 2”, a 1958 USC & GS brass cap monument found, bears N 67°14′35″ E, 8721.55 ft. distant, thence along said right-of-way; S 65°21′58″ W, 1293.07 ft. to the South corner, a ½ in. rebar set, thence leaving said right-of-way; N 34°07′38″ W, 8245.79 ft. to the West corner, a ½ in. rebar set on the easterly bank of the Rio Grande (the true boundary of the Gijosa Grant and of this tract is the medial line of the Rio Grande), thence along said bank the following meander courses; S 71°24′03″ E, 35.79 ft. to a ½ in. rebar set, thence; S 78°45′26′″ E, 83.38 ft. to a ½ in. rebar set, thence; N 79°45′29″ E, 77.51 ft. to a ½ in. rebar set, thence; S 85°06′12″ E, 53.09 ft. to a ½ in. rebar set, thence; S 69°16′53″ E, 126.66 ft. to a ½ in. rebar set, thence; N 87°33′01″ E, 134.99 ft. to a ½ in. rebar set, thence; N 77°12′38″ E, 52.24 ft. to a ½ in. rebar set, thence; N 82°31′49″ E, 96.48 ft. to an “x” scribed on a rock, thence; N 65°57′15″ E, 233.82 ft. to a ½ in. rebar set, thence; N 75°10′58″ E, 128.43 ft. to a ½ in. rebar set, thence; N 63°17′33″ E, 73.53 ft. to a ½ in. rebar set, thence; N 42°29′02″ E, 25.43 ft. to a ½ in. rebar set, thence; N 60°32′08″ E, 62.12 ft. to a ½ in. rebar set, thence; N 12°35′07″ E, 26.88 ft. to a ½ in. rebar set, thence; N 12°59′35″ W, 31.27 ft. to a ½ in. rebar set, thence; N 10°37′22″ E, 47.87 ft. to a ½ in. rebar set, thence; N 28°47′19″ E, 119.72 ft. to a ½ in. rebar set, thence; N 41°18′35″ E, 54.39 ft. to a ½ in. rebar set, thence; N 23°32′06″ E, 226.52 ft. to a ½ in. rebar set, thence; N 15°46′43″ E, 74.89 ft. to a ½ in. rebar set, thence; N 27°38′37″ E, 106.43 ft. to a ½ in. rebar set, thence; N 40°34′12″ E, 49.19 ft. to the North corner, a ½ in. rebar set, thence leaving said bank; S 31°37′54″ E, 8368.06 ft. to the point and place of beginning.

This tract contains 268.75 acres, more or less; all as shown on a survey plat entitled “Klauer Manufacturing Co. to the Trust for Public Land”, RGSS survey no. L4510-1, by Scott B. Crowl, NMLS no.12441, dated 06/09/2001.

Parcel 3A

New Mexico Principal Meridian, New Mexico

A certain tract of land south of Ranchos de Taos, Taos County, New Mexico; within the Gijosa Grant; located within projected Sections 1 and 12, T. 24 N., R. 11 E, NMPM and within projected Section 7, T. 24 N., R. 12 E., NMPM; described as part of Blocks 15, 23, and 24 as shown on a survey for the Ranchos Orchard and Land Company; also described as part of Tract 2, Map 68 part of Tract 2, Map 69, part of Tracts 1 and 2, Map 70, all within Survey 2 of the 1941 Taos County Reassessment Survey; and more particularly described by metes and bounds as follows:

Beginning at the East corner of this tract, a ½ in. rebar set on the northwesterly right-of-way of State Road 68, from whence triangulation station “Gijosa 2,” a 1958 USC & GS brass cap monument found, bears N 68°52′41″ E, 4654.06 ft. distant, thence along said right-of-way; S 65°22′44″ W, 676.40 ft. to the South corner, an NMSHC steel rail right-of-way monument found, thence leaving said right-of-way; N 28°20′18″ W, 9094.22 ft. to the West corner, a point at the centerline of the Rio Pueblo de Taos, from whence a ½ in. rebar set previously as a reference monument, bears; S 79°03′11″ E, 17.84 ft. distant, thence along said Rio centerline the following meander courses; N 28°32′04″ E, 208.72 ft. to a point, from whence a ½ in. rebar set as a reference monument, bears S 85°00′00″ E, 70.00 ft. distant, thence; N 37°31′16″ E, 217.35 ft. to a point, from whence a ½ in. rebar set as a reference monument, bears; N 80°00′00″ E, 20.00 ft. distant, thence; N 22°23′03″ E, 119.34 ft. to a point, from whence a ½ in. rebar set as a reference monument, bears S 65°00′00″ E, 20.00 ft. distant, thence; N 04°20′57″ E, 122.90 ft. to a point, from whence a ½ in. rebar set as a reference monument, bears; S 55°00′00″ E, 20.00 ft. distant, thence; N 39°54′36″ E, 93.22 ft. to a point, from whence a ½ in. rebar set as a reference monument, bears S 55°00′00″ E, 20.00 ft. distant, thence; N 15°47′12″ E, 145.98 ft. to a point, from whence a ½ in. rebar set as a reference monument, bears; N 70°00′00″ E, 20.00 ft. distant, thence; N 36°32′02″ E, 116.77 ft. to the North corner, a point from whence a ½ in. rebar set as a witness corner, bears; S 27°26′53″ E, 20.00 ft. distant, thence leaving said centerline; S 27°26′53″ E, 9710.11 ft. to the point and place of beginning.

This tract contains 161.270 acres, more or less; all as shown on a survey plat entitled “Klauer Manufacturing Co. to the Trust for Public Land”, RGSS survey no. L4510-4, by Scott B. Crowl, NMLS no. 12441, dated 2/25/2002.

The area described contains 430.015 acres in Taos County.

The purpose of the proposed withdrawal is to protect the riparian, scenic, and recreational integrity, maintain open space, and prevent rural residential development of the lands adjacent to the Rio Grande National Wild and Scenic River.

For a period of 90 days from the date of publication of the notice, all persons who wish to submit comments, suggestions, or objections in connection with the proposed withdrawal may present their views in writing to the Taos Field Office Manager of the BLM at the above address.

Notice is hereby given that an opportunity for a public meeting is afforded in connection with the proposed withdrawal. All interested persons who desire a public meeting for the purpose of being heard on the proposed withdrawal must submit a written request to the Taos Field Office Manager within 90 days from the date of publication of this notice. Upon determination by the authorized officer that a public meeting will be held, a notice of the time and place will be published in the Federal Register at least 30 days before the scheduled date of the meeting.

The application will be processed in accordance with the regulations set forth in 43 CFR 2300.

For a period of 2 years from the date of publication of this notice in the Federal Register, the public land will be segregated as specified above unless the application is denied or cancelled or the withdrawal is approved prior to that date. The temporary uses which may be permitted during this segregative period are licenses, permits, cooperative agreements, and discretionary land use authorizations of a temporary nature with the approval of the authorized officer.

Dated: May 24, 2002.
Sam DesGeorges,
Assistant Taos Field Office Manager.

[FR Doc. 02-22394 Filed 8-30-02; 8:45 am]

BILLING CODE 4310-FB-P